DEPARTMENT OF TRANSPORTATION

National Highway Traffic Safety Administration

[Docket No. NHTSA-2015-0123; Notice 2]

Volkswagen Group of America, Grant of Petition for Decision of Inconsequential Noncompliance

AGENCY: National Highway Traffic Safety Administration (NHTSA), Department of Transportation (DOT).

ACTION: Grant of petition.

SUMMARY: Volkswagen Group of America (Volkswagen) has determined that certain model year (MY) 2015-2016 Volkswagen passenger cars do not fully comply with paragraph S4.3(c) and S4.3(d) of Federal Motor Vehicle Safety Standard (FMVSS) No. 110, Tire Selection and Rims and Motor Home/Recreation Vehicle Trailer Load Carrying Capacity Information for Motor Vehicles with a GVWR of 4,536 kilograms (10,000 pounds) or Less. Volkswagen filed a report dated November 25, 2015, pursuant to 49 CFR part 573, Defect and Noncompliance Responsibility and Reports. Volkswagen then petitioned NHTSA under 49 CFR part 556 requesting a decision that the subject noncompliance is inconsequential to motor vehicle safety.

ADDRESSES: For further information on this decision contact Kerrin Bressant, Office of Vehicles Safety Compliance, the National Highway Traffic Safety Administration (NHTSA), telephone (202) 366-1110, facsimile (202) 366-3081.

SUPPLEMENTARY INFORMATION:

I. Overview

Pursuant to 49 U.S.C. 30118(d) and 30120(h) and the rule implementing those provisions at 49 CFR part 556, Volkswagen submitted a petition for an exemption from the notification and remedy requirements of 49 U.S.C. Chapter 301 on the basis that this noncompliance is inconsequential to motor vehicle safety. Notice of receipt of the petition was published, with a 30-day public comment period, on March 1, 2016 in the Federal Register (81 FR 10715). Two comments were received.

II. Vehicles Involved

Affected are approximately 4,965 MY 2015-2016 Volkswagen e-Golf passenger vehicles that were manufactured between May 21, 2014 and November 14, 2015 and approximately 4,618 MY 2015-2016 Volkswagen Golf R passenger vehicles that were manufactured between October 24, 2014 and November 14, 2015.

III. Noncompliance

Volkswagen explains that the noncompliance is that the tire placard does not contain the word “none” in the area reserved for the spare tire specifications as required by paragraphs S4.3(c) and S4.3(d) of FMVSS No. 110.

IV. Rule Text

Paragraphs S4.3(c) and (d) of FMVSS No. 110 require in pertinent part:

S4.3 Placard. Each vehicle, except for a trailer or incomplete vehicle, shall show the information specified in S4.3(a) through (g), and may show, at the manufacturer's option, the information specified in S4.3(h) and (i), on a placard permanently affixed to the driver's side B-pillar. . . .

(c) Vehicle manufacturer's recommended cold tire inflation pressure for front, rear and spare tires, subject to the limitations of S4.3.4. For full size spare tires, the statement “see above” may, at the manufacturer's option replace manufacturer's recommended cold tire inflation pressure. If no spare tire is provided, the word “none” must replace the manufacturer's recommended cold tire inflation pressure.

(d) Tire size designation, indicated by the headings “size” or “original tire size” or “original size,” and “spare tire” or “spare,” for the tires installed at the time of the first purchase for purposes other than resale. For full size spare tires, the statement “see above” may, at the manufacturer's option replace the tire size designation. If no spare tire is provided, the word “none” must replace the tire size designation;

V. Summary of Volkswagen's Analyses

Volkswagen stated its belief that the subject noncompliance is inconsequential to motor vehicle safety for the following reasons:

(A) Volkswagen stated that the misprinted information on the tire placard is applicable to a component (spare tire) that was not provided with the subject vehicles.

(B) Volkswagen explained that there is no effect on drivability, vehicle safety or tire wear.

(C) Volkswagen stated that it is not aware of any field or customer complaints related to the subject non-compliance.

In summation, Volkswagen believes that the described noncompliance of the subject vehicles is inconsequential to motor vehicle safety, and that its petition, to exempt Volkswagen from providing recall notification of noncompliance as required by 49 U.S.C. 30118 and remedying the recall noncompliance as required by 49 U.S.C. 30120 should be granted.

NHTSA's Decision

NHTSA's Analysis: Volkswagen explained that the tire placards on the affected “e-Golf” and “Golf R” vehicles do not contain the required word “none” in the spaces used to provide the spare tire information (size and cold tire pressure) since no actual spare tires were provided with these vehicles. On the “e-Golf” vehicles, the placard indicates dashes (“- - -”) instead of the word “none” in both the spare tire size and cold tire pressure spaces. On the “Golf R” vehicles, the placard identifies the spare tire size as “T125/70R18” and a cold tire pressure of “420KPA, 61 PSI” instead of the word “none” in both spaces. Volkswagen stated its belief that the subject mislabeling has no actual effect on the vehicle's drivability, safety or tire wear.

During the receipt notice comment period NHTSA received comments from two individuals. Both individuals believed Volkswagen's noncompliance is inconsequential to motor vehicle safety. The first individual stated that the vehicle owner will know, or learn, that the vehicle was not equipped with a spare tire and mentioned that NHTSA has approved a similar petition from General Motors. The second individual stated that he agrees with Volkswagen's reasoning and that the error is truly inconsequential to the safety of the consumer and not detrimental to the performance of the vehicles.

In consideration of the e-golf vehicles where the placard uses dashes instead of the word “none”, The agency believes the dashes will be interpreted to mean no spare tire was provided with the vehicle. Vehicle owners will confirm their vehicles are not equipped with a spare tire if, or when, there is a need for one. While some owners may find this inconvenient, manufacturers are not required to provide spare tires with vehicles they manufacture and sell. Therefore, the agency agrees with Volkswagen and the commenters that this noncompliance is inconsequential to motor vehicle safety.

In consideration of the Golf R vehicles where the placard specifies an actual spare tire size and cold inflation pressure (T125/70R18 @420kPa/61PSI) instead of the word “none”: The agency reviewed the load carrying capacity associated with that tire size and inflation pressure combination to ensure that it could meet the load requirements for the vehicle's maximum loading, as specified by FMVSS No. 110, in the event that a vehicle owner were to purchase and use that size tire on the subject vehicle. If the spare tire information listed on the placard was found to represent a tire and inflation pressure combination inappropriate for the Golf R vehicles, the agency would consider this noncompliance as consequential to motor vehicle safety. However, that was not the case, the subject spare tire T125/70R18 at a cold tire inflation pressure of 61 PSI has a much higher load carrying capacity than the front and rear tires listed on the placard at the listed inflation pressure (775 kg versus 580 kg ¹). In addition, similar to the e-Golf owners, the Golf R vehicle owners will be able to confirm that their vehicles are not equipped with a spare tire if, or when, there is a need for one. Therefore, in the case of the Golf R vehicles, the agency also agrees with Volkswagen and the commenters that this noncompliance is inconsequential to motor vehicle safety.

¹ The European Tyre and Rim Technical Organisation, Standards Manual, 2015

Lastly, Volkswagen stated that they are not aware of any consumer complaints, field communications, related to this noncompliance. Volkswagen informed NHTSA that it has corrected the noncompliances of the subject vehicles so that all production vehicles on and after November 15, 2015 will fully comply with FMVSS No. 110.

NHTSA's Decision: In consideration of the foregoing analysis, NHTSA finds that Volkswagen has met its burden of demonstrating that the subject FMVSS No. 110 noncompliance in the affected vehicles is inconsequential to motor vehicle safety. Accordingly, Volkswagen's petition is hereby granted and Volkswagen is exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Volkswagen no longer controlled at the time it determined that the noncompliance existed. However, any decision on this petition does not relieve vehicle distributors and dealers of the prohibitions on the sale, offer for sale, or introduction or delivery for introduction into interstate commerce of the noncompliant vehicles under their control after Volkswagen notified them that the subject noncompliance existed.

Authority: 49 U.S.C. 30118, 30120: Delegations of authority at 49 CFR 1.95 and 501.8.

Jeffrey M. Giuseppe,
Director, Office of Vehicle Safety Compliance.

[FR Doc. 2016-10916 Filed 5-9-16; 8:45 am]

BILLING CODE 4910-59-P